DEPARTMENT OF THE INTERIOR

Bureau of Indian Affairs

Notice of Fund Availability

AGENCY: Bureau of Indian Affairs, Interior.

ACTION: Notice of fund availability—tribal courts and Courts of Indian Offenses.

SUMMARY: The Bureau of Indian Affairs (BIA) is announcing that $5.5 million is available for funding to tribal courts (including CFR courts) that assume responsibility of adjudicating matters under 25 CFR part 115, for outsourcing with tribal entities or organizations to provide technical assistance to prospective tribal court grantees, and for development of a tribal court infrastructure, where necessary. Under part 115, tribal courts are responsible for appointing guardians, determining competency, awarding child support from Individual Indian Money (IIM) accounts, determining paternity, sanctioning adoptions, marriages, and divorces, making presumptions of death, and adjudicating claims involving trust assets. Funds will be awarded under the discretionary authority of section 103 of Public Law 93-638.

DATES: Applications are due July 25, 2003.

ADDRESSES: Send applications to Ralph Gonzales, Bureau of Indian Affairs, Office of Tribal Services, Branch of Judicial Services, MS 320-SIB, 1951 Constitution Avenue, NW., Washington, DC 20240.

FOR FURTHER INFORMATION CONTACT: Ralph Gonzales, (202) 513-7629.

SUPPLEMENTARY INFORMATION: The authority to issue this notice is vested in the Secretary of the Interior by 5 U.S.C. 301 and 25 U.S.C. 2 and 9, 25 U.S.C. 13, which authorizes appropriations for “Indian judges” (See Tillett v. Hodel, 730 F.Supp. 381 (W.D. Okla. 1990), aff'd 931 F.2d 636 (10th Cir. 1991) United States v. Clapox, 13 Sawy. 349, 35 F. 575 (D.Ore. 1888)), and is in the exercise of authority delegated to the Assistant Secretary—Indian Affairs by 209 Departmental Manual 8.1.

There are approximately 225 tribes that contract or compact with the Bureau of Indian Affairs to perform the Secretary's adjudicatory function and 23 Courts of Indian Offenses (also known as CFR courts). It is expected that 15 tribal entities will choose to assume this responsibility. The $5.5 million is earmarked to assist tribal courts to perform the increased responsibilities required by 25 CFR part 115 and to provide technical assistance to tribal courts as necessary. Funds will be distributed to tribal courts based on the cost per case as determined by the estimated number of prospective Supervised IIM Account cases submitted by all qualified applicants. Approximately 15 percent of the total amount available in this Notice of Fund Availability (NOFA) will be with tribes or tribal entities to provide technical assistance and code development for tribal courts as needed.

Program Description

Qualified tribal applicants that assume responsibility over Supervised IIM Accounts under 25 CFR 115 are eligible to receive funding under this NOFA. Applicants will consider the following sections of part 115 when responding to this NOFA: 115.001, 115.002, 115,100, 115.102, 115.104, 115.107, 115.400, 115.401, 115.413, 115.420, 115.421, 115.425, 115.430, 115.600, 115.601, 115.605, 115.701.

Note: An electronic copy of this document may be downloaded from the Office of the Federal Register's home page at: http://www.access.gpo.gov/nara.

Tribes seeking to apply will be responsible for having codes or ordinances in place; appointing guardians; determining competency; awarding child support from Individual Indian Money (IIM) accounts; determining paternity; sanctioning adoptions, marriages, and divorces; making presumptions of death; and adjudicating claims involving trust assets as prescribed in the sections cited above. Funds provided under this NOFA are specifically made available to tribal courts that assume additional responsibility under 25 CFR 115 to adjudicate Supervised IIM Accounts and are not intended to be used as general operating funds for a judiciary. Tribes that received grant funds under the FY 2002 NOFA must have submitted all reports required under the grant to qualify for grant funds under this FY 2003 NOFA.

Definitions

Case Disposed Of. A case in which a final decision is rendered by the court even though the court may retain jurisdiction subsequently to review the matter upon submission of additional relevant facts by an interested party.

Qualified Applicant. A qualified applicant is a tribal government submitting an application for funding for a tribal court meeting the following threshold requirements:

(1) The tribal government has enacted the codes necessary for the tribal justice system to carry out its responsibility under 25 CFR 115.

(2) The tribal court has adopted and made accessible court rules setting forth the procedures to adjudicate these cases.

(3) Tribal court personnel have been trained to process these cases and the court is staffed to fulfill the tribal legislative mandate.

(4) The tribal justice system is one that serves as the judicial component of a tribal government which is federally recognized by the United States Government.

A tribal court will be considered to be a qualified applicant if it received a Supervised IIM Account grant in FY 2002, there has been no substantive change in the court structure, and the tribe has filed all reports required under the grant. If these conditions have been met, certification will not be necessary. The tribal court only needs to state that there has been no substantive change in status as a grantee from the prior fiscal year.

Tribal Courts. As used in this NOFA, reference to tribal courts includes Courts of Indian Offenses (CFR courts) established by the Department of the Interior under Title 25 part 11 (2001-edition) of the Code of Federal Regulations.

Application Process

(1) The tribal government, unless considered to be pre-qualified, will provide a certification that the threshold requirements are met, in response to Item #11 in SF-424 (See attached form). In the event that the tribe wants to participate in the program, but is unable to provide this certification, the tribe must send a letter expressing intent to participate and requesting technical assistance, to Ralph Gonzales, Bureau of Indian Affairs, Office of Tribal Services, Branch of Judicial Services, MS 320-SIB, 1951 Constitution Avenue, NW., Washington, DC 20240, phone 202-513-7629, fax 202-208-5113.

(2) In Item #11 of SF 424, the tribe will indicate the number of Supervised IIM Accounts that will be disposed of during FY 2003.

(3) Funds will be awarded under the discretionary authority of section 103 of Public Law 93-638 (25 U.S.C. 450h).

Application Form

Tribes must fill out and submit the form entitled “Application for Federal Assistance,” labeled with the Office of Management and Budget (OMB) Approval No. 0348-0043 (Standard Form 424, Rev. 7-97). The form is attached to this notice. The form may also be downloaded from the Internet at http://www.gsa.gov.

Deadline

Applications are due 30 calendar days after the publication date of this NOFA and must be either received or postmarked by midnight on the deadline date. Mail applications to Ralph Gonzales, Bureau of Indian Affairs, Office of Tribal Services, Branch of Judicial Services, MS 320-SIB, 1951 Constitution Avenue, NW., Washington, DC 20240; or fax to 202-208-5113. Applicants may also hand deliver applications to the address indicated above by close-of-business (5 p.m. e.s.t.) on the deadline date. Additionally, applications will be accepted by facsimile until the close-of-business (5 p.m. e.s.t.) on the deadline date, provided the original application is submitted as supporting documentation postmarked by midnight the day after the due date. No applications can be transmitted by e-mail (electronic mail). Applicants are responsible for ensuring proper delivery of the application and are encouraged to contact Ralph Gonzales at 202-513-7629 to confirm its receipt.

Dated: June 6, 2003.
Aurene M. Martin,
Assistant Secretary—Indian Affairs.

BILLING CODE 4310-4J-P

[FR Doc. 03-15997 Filed 6-24-03; 8:45 am]

BILLING CODE 4310-4J-C